INTERNATIONAL TRADE COMMISSION

[Investigation No. 337-TA-1339]

Certain Smart Thermostat Hubs, Systems Containing the Same, and Components of the Same; Notice of a Commission Determination Not To Review an Initial Determination Granting a Motion To Terminate the Investigation Based on Withdrawal of the Complaint; Termination of the Investigation

AGENCY: U.S. International Trade Commission.

ACTION: Notice.

SUMMARY: Notice is hereby given that the U.S. International Trade Commission has determined not to review an initial determination (“ID”) (Order No. 19) of the presiding administrative law judge (“ALJ”) granting the complainant's unopposed motion to terminate the above-captioned investigation in its entirety based on withdrawal of the complaint. The investigation is terminated.

FOR FURTHER INFORMATION CONTACT: Paul Lall, Office of the General Counsel, U.S. International Trade Commission, 500 E Street SW, Washington, DC 20436, telephone (202) 205-2043. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: On October 24, 2022, the Commission instituted this investigation under section 337 of the Tariff Act of 1930, as amended, 19 U.S.C. 1337 (“section 337”), based on a complaint filed by EDST, LLC and Quext IoT, LLC, both of Lubbock, Texas (collectively, “Complainants”). See 87 FR 64247 (Oct. 24, 2022). The complaint, as supplemented, alleges a violation of section 337 based upon the importation into the United States, sale for importation, or sale within the United States after importation of certain smart thermostat hubs, systems containing the same, and components of the same by reason of the infringement of certain claims of U.S. Patent Nos. 10,825,273; 10,803,685; and 11,189,118 (“the '118 patent”). Id. The complaint further alleges that a domestic industry exists. Id. The notice of investigation names iApartments, Inc. of Tampa, Florida; and Hsun Wealth Technology Co., Ltd. and Huarifu Technology Co., Ltd. (collectively, “Huarifu”), both of Taoyuan City, Taiwan, as respondents. Id. The Office of Unfair Import Investigations is not participating in this investigation.

The Commission previously terminated the investigation as to respondent Huarifu based on Complainants' partial withdrawal of the complaint. Order No. 5 (Nov. 9, 2022), unreviewed by Comm'n Notice (Dec. 2, 2022). The Commission also previously amended the complaint and notice of investigation to add ITI Hong Kong Co., Ltd. of Hong Kong as a respondent. Order No. 9 (Dec. 7, 2022), unreviewed by Comm'n Notice (Dec. 28, 2022). The Commission also previously terminated the investigation as to all asserted claims of the '118 patent based on partial withdrawal of the complaint. Order No. 16 (Feb. 23, 2023), unreviewed by Comm'n Notice (March 9, 2023).

On March 2, 2023, Complainants filed an unopposed motion to terminate the investigation in its entirety based on withdrawal of the complaint.

Also on March 2, 2023, the presiding ALJ issued the subject ID (Order No. 19) granting Complainants' motion to terminate. The subject ID finds that the motion complies with Commission Rule 210.21(a)(1) (19 CFR 210.21(a)(1)) and that “there are no extraordinary circumstances that warrant denying the motion.” ID at 2.

No party petitioned for review of the subject ID.

The Commission has determined not to review the subject ID (Order No. 19). The investigation is terminated in its entirety.

The Commission vote for this determination took place on March 23, 2023.

The authority for the Commission's determination is contained in section 337 of the Tariff Act of 1930, as amended (19 U.S.C. 1337), and in Part 210 of the Commission's Rules of Practice and Procedure (19 CFR part 210).

By order of the Commission.
Issued: March 23, 2023.
Lisa Barton,
Secretary to the Commission.

[FR Doc. 2023-06398 Filed 3-27-23; 8:45 am]

BILLING CODE 7020-02-P